DEPARTMENT OF COMMERCE

International Trade Administration

University of Alabama, et al., Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 a.m. and 5 p.m. in Room 2104, U.S. Department of Commerce, Statutory Import Programs Staff, Room 2104, 14th and Constitution Avenue, NW., Washington, DC.

Docket Number: 06-018. Applicant: University of Alabama. Tuscaloosa, AL 35487. Instrument: Electron Microscope, Model Technai G2 F20 S-TWIN. Manufacturer: FEI Company, The Netherlands. Intended Use: See notice at 71 FR 42631.

Docket Number: 06-019. Applicant: University of Pittsburgh, Pittsburgh, PA 15261. Instrument: Electron Microscope, Model JEM-2100F. Manufacturer: JEOL Ltd., Japan. See notice at 71 FR 42631.

Docket Number: 06-020. Applicant: Middle Tennessee State University, Murfreesboro, TN 37132. Instrument: Electron Microscope, Model H-7650 TEM. Manufacturer: Hitachi High Technologies, Japan. Intended Use: See notice at 71 FR 42631.

Docket Number: 06-021. Applicant: The University of Texas, Dallas, TX 75390-9056. Instrument: Electron Microscope, Model Technai G2 Spirit BioTwin. Manufacturer: FEI Company, Czech Republic. Intended Use: See notice at 71 FR 42631.

Docket Number: 06-022. Applicant: Battelle Memorial Institute, Pacific Northwest Division, Richland, WA 99352. Instrument: Electron Microscope, Model Technai G2 Sprint TWIN. Manufacturer: FEI Company, Czech Republic. Intended Use: See notice at 71 FR 42631.

Docket Number: 06-023. Applicant: University of California, Lawrence Berkeley Lab for the US Department of Energy, Berkeley, CA 94720. Instrument: Electron Microscope, Model JEM-2100. Manufacturer: JEOL, Ltd., Japan. Intended Use: See notice at 71 FR 42631.

Docket Number: 06-024. Applicant: The University of Alabama, Tuscaloosa, AL 35487-0344. Instrument: Electron Microscope, Model H-7650-II TEM. Manufacturer: Hitachi High-Technologies Corp, Japan. Intended Use: See notice at 71 FR 42631.

Docket Number: 06-025. Applicant: The Ohio State University, Campus Microscopy and Imaging Facility, Columbus, OH 43210. Instrument: Electron Microscope, Model Technai G2 Spirit BioTwin. Manufacturer: FEI Company, Czech Republic. Intended Use: See notice at 71 FR 42631.

Docket Number: 06-026. Applicant: The New York Structural Biology Center, New York, NY 10027. Instrument: Electron Microscope, Model JEM-3200FSC. Manufacturer: JEOL Ltd., Japan. Intended Use: See notice at 71 FR 42631.

Docket Number: 06-027. Applicant: The University of Akron, Akron, OH 44325. Instrument: Electron Microscope, Model JEM-1230. Manufacturer: Joel Ltd., Japan. Intended Use: See notice at 71 FR 42631.

Docket Number: 06-028. Applicant: Clarion Health Partners, Indianapolis, IN 46204. Instrument: Electron Microscope, Model Technai G2 Spirit BioTwin. Manufacturer: FEI Company, Czech Republic. Intended Use: See notice at 71 FR 42632.

Docket Number: 06-029. Applicant: U.S. Department of Commerce, National Institute of Standards and Technology, MD 20899. Instrument: Aberration-Corrected Monochromated Electron Microscope, Model ACEM: Technai G3 TF30CSP. Manufacturer: FEI Company, The Netherlands . Intended Use: See notice at 71 FR 42632.

Docket Number: 06-030. Applicant: Florida State University, Department of Biological Science, Tallahassee, FL 32306 Instrument: Electron Microscope, Model Nova 400 NanoSEM. Manufacturer: FEI Company, Czech Republic. Intended Use: See notice at 71 FR 42632.

Docket Number: 06-031. Applicant: Jackson State University, Jackson, MI 18540. Instrument: Electron Microscope, Model JEM-1011 Manufacturer: JEOL Ltd., Japan. Intended Use: See notice at 71 FR 42632.

Docket Number: 06-032. Applicant: Smithsonian Institution, National Museum of Natural History, Washington DC 20560-0019. Instrument: Electron Microscope, Model Nova 600 NanoSEM. Manufacturer: FEI Company, Czech Republic. Intended Use: See notice at 71 FR 42632.

Docket Number: 06-033. Applicant: University of North Florida, Jacksonville FL 32224. Instrument: Electron Microscope, Model Quantum 200 ESEM. Manufacturer: FEI Company, Czech Republic. Intended Use: See notice at 71 FR 42632.

Docket Number: 06-034. Applicant: NYS Institute for Basic Research, Staten Island, NY 10314. Instrument: Electron Microscope, Model H-7500. Manufacturer: Hitachi High-Technologies Corporation, Japan. Intended Use: See notice at 71 FR 42632.

Docket Number: 06-035. Applicant: Carnegie Mellon University, Pittsburgh, Pa 15213. Instrument: Electron Microscope, Model Nova 600 NanoLab Dual Beam. Manufacturer: FEI Company, The Netherlands. Intended Use: See notice at 71 FR 42632.

Docket Number: 06-036. Applicant: Texas Tech University, Health Sciences Center, Lubbock, TX 79430. Instrument: Electron Microscope, Model H-7650-II TEM. Manufacturer: Hitachi High-Technologies Corporation, Japan . Intended Use: See notice at 71 FR 42632.

Docket Number: 06-038. Applicant: The Ohio State University, Campus Microscopy and Imaging Facility, Columbus, OH 43210. Instrument: Electron Microscope, Model Technai G2 Spirit BioTwin. Manufacturer: FEI Company, Czech Republic. Intended Use: See notice at 71 FR 42633.

Docket Number: 06-039. Applicant: University of Louisville, Speed School Of Engineering, Louisville, KY 40292. Instrument: Electron Microscope, Model Technai G2 F-20 X-TWIN. Manufacturer: FEI Company, The Netherlands. Intended Use: See notice at 71 FR 42633.

Docket Number: 06-040. Applicant: UC Irvine Medical Center, Orange, CA, 92868. Instrument: Electron Microscope, Model Technai G2 Spirit. Manufacturer: FEI Company, Czech Republic. Intended Use: See notice at 71 FR 42633.

Docket Number: 06-042. Applicant: The University of Illinois at Urbana-Champaign, Champaign, IL 61820. Instrument: Electron Microscope, Model JEM-220FS with STEM & Monochrometer. Manufacturer: JEOL Ltd., Japan. Intended Use: See notice at 71 FR 42633.

Docket Number: 06-043. Applicant: SUNY Upstate Medical University, Syracuse, NY 13210. Instrument: Electron Microscope, Model JEM-2100. Manufacturer: JEOL Ltd., Japan. Intended Use: See notice at 42633.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Gerald A. Zerdy,
Program ManagerStatutory Import Programs Staff.

[FR Doc. 06-7935 Filed 9-20-06; 8:45 am]

BILLING CODE 3510-DS-S